DEPARTMENT OF COMMERCE

International Trade Administration

[A-588-810]

Mechanical Transfer Presses From Japan: Final Results of Antidumping Duty Administrative Review.

AGENCY: Import Administration, International Trade Administration, Department of Commerce.

SUMMARY: On March 7, 2003, the Department of Commerce (the Department) published the preliminary results of its administrative review of the antidumping duty order on mechanical transfer presses (MTPs) from Japan (68 FR 11039). This review covers shipments of this merchandise to the United States during the period of February 1, 2001 through January 31, 2002.

We gave interested parties an opportunity to comment on our preliminary results. We received a letter from the respondent stating that it had no comments. We received no other comments.

EFFECTIVE DATE: July 2, 2003.

FOR FURTHER INFORMATION CONTACT: Jacqueline Arrowsmith or Doug Campau, Office of Antidumping/Countervailing Duty Enforcement VII, Import Administration, International Trade Administration, U.S. Department of Commerce, 14th Street and Constitution Avenue, NW, Washington, DC 20230; telephone (202) 482-5255 or (202) 482-1395, respectively.

SUPPLEMENTARY INFORMATION:

Background

On March 7, 2003, the Department published the preliminary results of its administrative review of the antidumping duty order on MTPs from Japan. See Mechanical Transfer Presses from Japan: Preliminary Results of Antidumping Duty Administrative Review, 68 FR 11039 (March 7, 2003). In the Preliminary Results, we found that U.S. sales were not made below normal value by the respondent. We gave interested parties an opportunity to comment on our preliminary results. We received a letter from the respondent stating it had no comments. The Department received no other comments and no requests for a hearing. The Department has now completed this review in accordance with section 751 of the Tariff Act of 1930, as amended (the Act).

Scope of the Antidumping Duty Order

Imports covered by this antidumping duty order include mechanical transfer presses, currently classifiable under Harmonized Tariff Schedule of the United States (HTSUS) item numbers 8462.10.0035, 8466.94.6540 and 8466.94.8540 and formerly classifiable as 8462.99.8035, 8462.21.8085, and 8466.94.5040. The HTSUS subheadings are provided for convenience and Customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled.

The Department published in the Federal Register several notices of scope rulings with respect to MTPs from Japan, determining that (1) spare and replacement parts are outside the scope of the order (see Notice of Scope Rulings, 57 FR 19602 (May 7, 1992)); (2) a destack feeder designed to be used with a mechanical transfer press is an accessory and, therefore, is not within the scope of the order (see Notice of Scope Rulings, 57 FR 32973 (July 24, 1992)); (3) the FMX cold forging press is within the scope of the order (see Notice of Scope Rulings, 59 FR 8910 (February 24, 1994)); and (4) certain mechanical transfer press parts exported from Japan are outside the scope of the order (see Notice of Scope Rulings, 62 FR 9176 (February 28, 1997).

Final Results of Review

Since the Department received no comments on the Preliminary Results, we continue to find that a margin of zero percent exists for the period February 1, 2001 through January 31, 2002 for Hitachi Zosen Corporation/Hitachi Zosen Fukui Corporation (HZC/H&F).¹ The Department will issue assessment instructions directly to the U.S. Bureau of Customs and Border Protection (Customs) within 15 days of publication of these final results of review.

¹ The Department determined to treat HZC and H&F as a single entity under section 351.401(f) of the regulations. See Preliminary Results, 68 FR 11039.

Cash Deposit Requirements

The following deposit requirements shall be effective upon publication of this notice of final results of administrative review for all shipments of MTPs from Japan entered, or withdrawn from warehouse, for consumption on or after the date of publication, as provided by section 751(a)(2)(C) of the Act: (1) since the weighted-average margin for HZC/H&F is zero, the Department shall require no deposit of estimated antidumping duties for subject merchandise exported by HZC/H&F; (2) for previously reviewed or investigated companies not listed above, the cash deposit rate will continue to be the company-specific rate established for the most recent period; (3) if the exporter is not a firm covered in this review, a prior review, or the original less-than-fair value investigation (LTFV), but the manufacturer is, the cash deposit rate will be the rate established for the most recent period for the manufacturer of the merchandise; and, (4) for all other producers and/or exporters of this merchandise, the cash deposit rate shall be the “all-others” rate established in the LTFV investigation, which is 14.51 percent. See Notice of Final Determination of Sales at Less Than Fair Value and Antidumping Duty Order: Mechanical Transfer Presses from Japan, 55 FR 5642 (February 16, 1990). These deposit requirements shall remain in effect until publication of the final results of the next administrative review.

Notification of Interested Parties

This notice also serves as a final reminder to importers of their responsibility under section 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO as explained in the administrative order itself. Timely written notification of the return/destruction of APO materials or conversion to judicial protective order is hereby requested. Failure to comply with the regulations and terms of an APO is a sanctionable violation.

This administrative review and notice are in accordance with sections 751(a)(3)(A) and 777(i)(1) of the Act.

Dated: June 25, 2003.
Joseph A. Spetrini,
Acting Assistant Secretary for Import Administration.

[FR Doc. 03-16728 Filed 7-1-03; 8:45 am]

BILLING CODE 3510-DS-S